DEPARTMENT OF VETERANS AFFAIRS

38 CFR Part 17

RIN 2900-AO26

Exempting In-Home Video Telehealth From Copayments

AGENCY: Department of Veterans Affairs.

ACTION: Direct final rule; confirmation of effective date.

SUMMARY: The Department of Veterans Affairs (VA) published a direct final rule amending its regulation that governs VA services that are not subject to copayment requirements for inpatient hospital care or outpatient medical care. Specifically, the regulation exempted in-home video telehealth care from having any required copayment. VA received no significant adverse comments concerning this rule or its companion substantially identical proposed rule published on the same date. This document confirms that the direct final rule became effective on May 7, 2012. In a companion document in this issue of the Federal Register, we are withdrawing as unnecessary the proposed rule.

DATES: Effective Date: This final rule is effective May 7, 2012.

FOR FURTHER INFORMATION CONTACT: Kristin J. Cunningham, Director Business Policy, Chief Business Office, Department of Veterans Affairs, 810 Vermont Ave. NW., Washington, DC 20420; (202) 461-1599. (This is not a toll-free number.)

SUPPLEMENTARY INFORMATION: In a direct final rule published in the Federal Register on March 6, 2012, 77 FR 13195, VA amended 38 CFR 17.108 to eliminate copayments for in-home video telehealth. VA published a companion substantially identical proposed rule at 77 FR 13236 on the same date to serve as a proposal for the provisions in the direct final rule in case adverse comments were received. The direct final rule and proposed rule each provided a 30-day comment period that ended on April 5, 2012. No adverse comments were received. Two comments that supported the rulemaking were received from members of the general public.

Under the direct final rule procedures that were described in 77 FR 13195 and 77 FR 13236, the direct final rule became effective on May 7, 2012, because no significant adverse comments were received within the comment period. In a companion document in this issue of the Federal Register, VA is withdrawing the proposed rulemaking, RIN 2900-AO27, published at 77 FR 13236, as unnecessary.

Signing Authority

The Secretary of Veterans Affairs, or designee, approved this document and authorized the undersigned to sign and submit the document to the Office of the Federal Register for publication electronically as an official document of the Department of Veterans Affairs. John R. Gingrich, Chief of Staff, Department of Veterans Affairs, approved this document on September 18, 2012, for publication.

Dated: September 19, 2012.
Robert C. McFetridge,
Director, Office of Regulation Policy and Management, Office of the General Counsel, Department of Veterans Affairs.

[FR Doc. 2012-23513 Filed 9-24-12; 8:45 am]

BILLING CODE 8320-01-P